POSTAL SERVICE

39 CFR Parts 224, 261 through 268

Release of Information and Records Management Changes

AGENCY: Postal Service.

ACTION: Proposed rule.

SUMMARY: The Postal Service proposes to revise organizational names and titles relating to the policies for the release of information and records management, and revises the fee structure relating to the furnishing of documents and records to members of the public under the Freedom of Information Act (FOIA). We are proposing these changes because organizational names and titles have changed as a result of agency restructuring. The revisions reflect to whom the public should address issues relating to the release of information and records management. In addition, we are proposing a change to fee structure to permit the recovery of current costs incurred in the furnishing of records to the public.

DATES: Any interested party may submit written comments on the proposed modification on or before September 22, 2003.

ADDRESSES: Mail or deliver written comments on this proposal to the Records Office, United States Postal Service, 475 L'Enfant Plaza, SW., Room 5846, Washington, DC 20260-5846. Copies of all written comments will be available at the address in this section for public inspection and photocopying between 8 a.m. and 4 p.m., Monday through Friday.

FOR FURTHER INFORMATION CONTACT: Robert Faruq at 202-268-2608.

SUPPLEMENTARY INFORMATION:

Proposed Changes

The Postal Service is proposing to modify parts 224 and 261-268 of Title 39, Code of Federal Regulations, to reflect current organizational names and titles, which have changed as a result of agency restructuring. The proposal additionally modifies part 265, revising the fee structure relating to the furnishing of documents and records to members of the public under the Freedom of Information Act (FOIA).

As a result of agency restructuring, responsibility for Postal Service release of information and records management policy has shifted from Finance to Consumer Affairs. The Chief Privacy Officer (CPO), who reports to the Vice President and Consumer Advocate, has assumed the release of information/records management responsibilities formerly held by the Manager, Administration and FOIA, under the Chief Financial Officer and Executive Vice President.

Under the new organizational structure, the title “Freedom of Information/Privacy Acts Officer” is changed to “Manager, Records Office.” The Manager, Records Office, reports to the CPO.

The CPO is responsible for the issuance of policy on the protection of privacy and the release of Postal Service records, with the power to authorize the disclosure of such records, and to delegate or take appropriate action if that policy is not adhered to, or if questions of interpretation or procedure arise. The CPO directs the activities of the Privacy Office and the Records Office.

The Manager, Records Office, is responsible for establishing procedures and guidelines to ensure that record management practices are in compliance with the Privacy Act and FOIA. The Manager, Records Office, may also delegate or take appropriate action if policies are not adhered to, or if questions of interpretation or procedures arise.

This proposal further modifies part 265 to revise the fee structure for providing documents and records to the public under the FOIA. Postal Service FOIA fees have not been updated since 1987, and are substantially below allowable costs.

The proposed FOIA fee structure changes in three ways. First, the fees will be assessed in half-hour increments, as opposed to quarter-hour increments. Second, the fee will increase to $32 per hour, to reflect the current cost of providing FOIA services. The third change eliminates the “clerical” and “professional/managerial” designations of responders, merging the two groups into one.

The use of half-hour increments is consistent with other agency practices and will allow for simpler administrative implementation. The proposed $32 per hour fee is based on the weighted average hourly salary with benefits under the Executive and Administrative Salary (EAS) Schedule, the class of personnel typically involved in providing FOIA services. The existing designations “clerical” and “professional/managerial” are eliminated. Those terms are often not meaningful within this class of employees.

Computer search fees, based on the Information Services Price List, have been updated with present costs related to current technology. The list has been replaced with rates to be assessed for computer processing time and personnel costs when information must be retrieved by computer, as follows:

| Price | Unit
Computer Processing
Mainframe usage | $.39 | per second
Midrange server usage | .06 | per second
PC usage | 7.00 | per 15 minute
Printing computer output | .14 | per page
Magnetic tape production | 24.00 | per volume
Personnel
High technical | $120 | per hour
Medium technical | 70 | per hour
Low technical | 50 | per hour

Lastly, the fee for business change-of-address information is eliminated.

List of Subjects

39 CFR Part 224

Organization and functions (Government agencies).

39 CFR Parts 261, 262, and 263

Archives and records.

39 CFR Part 264

Archives and records, Security measures.

39 CFR Part 265

Administrative practice and procedure, Courts, Freedom of information, Government employees.

39 CFR Parts 266 and 268

Privacy.

39 CFR Part 267

Archives and records, Classified information, Privacy, Security measures.

For the reasons stated in the preamble, the Postal Service proposes to amend 39 CFR parts 224, 261, and 262-268 as follows:

PART 224—[AMENDED]

1. The authority citation for part 224 continues to read as follows:

Authority: 5 U.S.C. App.3; 39 U.S.C. 203, 204, 401(2), 403, 404, 409, 1001; Inspector General Act of 1978, as amended (Pub.L. 95-452, as amended).

§ 224.1 [Amended]

2. In § 224.1, paragraph (a), remove the words “a Senior Assistant Postmaster General (SAPMG). The group consists of three departments, each headed by an Assistant Postmaster General and the Office of the Treasurer and the Records Office. The SAPMG, Finance, participates in the planning and budget process, and reviews and evaluates the budget requests of each region for the areas under control of the Finance Group.” and add in their place the words “Chief Financial Officer and Executive Vice President. The group includes the following: Vice President, Chief Technology Officer; Vice President, Finance Controller; Vice President, Treasurer; Vice President, Supply Management; Manager, Corporate Financial Planning; Manager, Internal Control; and Manager, Finance Administration.”

PART 261—[AMENDED]

3. The authority citation part 261 continues to read as follows:

Authority: 39 U.S.C. 401.

§ 261.2 [Amended]

4. In § 261.2, paragraph (b), remove the word “Finance” and add in its place the words “the Privacy Office” .

§ 261.4 [Amended]

5. Amend § 261.4 as follows:

a. In paragraph (a), remove the words “manager, Administration and FOIA, under the Chief Financial Officer and Senior Vice President,” and add in their place the words “Manager, Records Office, under the Privacy Office”; and

b. In paragraph (a) remove the word “finance” and add in its place the words “Consumer Affairs”.

c. Revise paragraph (b).

d. Remove paragraph (c).

The revision reads as follows:

§ 261.4 Responsibility.

* * * * *

(b) The Chief Privacy Officer, under the Vice President and Consumer Advocate, is responsible for administering records and information management policies and for the compliance of all handbooks, directives, and instructions in support of this policy.

PART 262—[AMENDED]

6. The authority citation for part 262 continues to read as follows:

Authority: 5 U.S.C. 552, 552A; 39 U.S.C. 401.

§ 262.2 [Amended]

7. Amend § 262.2 as follows:

a. Redesignate paragraphs (a), (c), and (d) as paragraphs (c), (d), and (e).

b. Add new paragraph (a).

c. Revise paragraph (b).

d. In newly redesignated paragraph (e), remove the words “Manager, Corporate Accounting” and add in their place the words “Records Office” and remove the word “official” and add in its place the words “Records Office is”.

The addition and revision read as follows:

§ 262.2 Officials.

(a) Chief Privacy Officer. The Chief Privacy Officer (CPO) is responsible for the issuance of policy on the protection of privacy and the release of Postal Service records with the power to authorize the disclosure of such records and to delegate or take appropriate action if that policy is not adhered to or if questions of interpretation or procedure arise. The CPO directs the activities of the Privacy Office and the Records Office.

(b) Manager, Records Office. The Manager, Records Office, manages the Records Office, and is responsible for establishing procedures and guidelines to ensure that record management practices are in compliance with the Privacy Act and FOIA. The Manager, Records Office, may also delegate or take appropriate action if policies are not adhered to or if questions of interpretation or procedures arise.

* * * * *

§ 262.4 [Amended]

8. Amend § 262.4 as follows:

a. In paragraph (a), remove the words “office of Corporate Accounting or the National Archives and Records Administration” and add in their place the words “Records Office”.

b. In paragraph (b), remove the words “office of Corporate Accounting” and add in their place the words “Records Office”.

§ 262.5 [Amended]

9. In § 262.5, paragraph (d)(2), remove the words “office of Administration and FOIA” and add in their place the words “Records Office'.

PART 263—[AMENDED]

10. The authority citation for 39 CFR Part 263 continues to read as follows:

Authority: 39 U.S.C. 401.

§ 263.3 [Amended]

11. Amend § 263.3 as follows: In paragraph (a), remove the words “The Office of Corporate Accounting” and add in their place the words “Records Office”.

§ 263.4 [Amended]

12. In § 263.4, remove the words “Corporate Accounting” and add in their place the words “the Records Office”.

§ 263.5 [Amended]

13. Amend § 263.5 as follows:

a. Remove the words “Corporate Accounting” and add in their place the words “Records Office”.

b. Remove the digits “5240”.

c. Remove the words “to the Records Specialist”.

d. Remove the digits “4869” and add in their place the digits “2608”.

PART 264—[AMENDED]

14. The authority citation for part 264 continues to read as follows:

Authority: 39 U.S.C. 401.

§ 264.3 [Amended]

15. In § 264.3, paragraph (a), remove the words “Corporate Accounting” and add in their place the words “Records Office”.

PART 265—[AMENDED]

16. The authority citation for part 265 continues to read as follows:

Authority: 5 U.S.C. 552; 5 U.S.C. App. 3; 39 U.S.C. 401, 403, 410, 1001, 2601.

§ 265.3 [Amended]

17. Amend § 265.3 as follows:

a. In paragraph (a), remove the words “§ 262.2 (a)” and add in their place the words “§ 262.2 (c)”.

b. In paragraph (b), remove the words “Freedom of Information/Privacy Acts Officer. The USPS Freedom of Information/Privacy Acts Officer, under the Manager, Administration and FOIA” and add in their place the words “Manager, Records Office. The Postal Service Manager, Records Office, under the Privacy Office”.

§ 265.4 [Amended]

18. Amend § 265.4 as follows:

a. Remove the words “USPS Freedom of Information/Privacy Acts Officer” and add in their place the words “Manager, Records Office”.

b. Remove the digits “5202”.

§ 265.5 [Amended]

19. In § 265.5, remove the designation “.gov” and add in its place the designation “.com/foia”.

§ 265.6 [Amended]

20. Amend § 265.6 as follows:

a. In paragraph (b), introductory text, remove the words “Office of Administration and FOIA” and add in their place the words “Records Office”.

b. In paragraph (d)(1), remove the words “upon payment of the fee prescribed in § 265.9 (e)(3) and (g)(5),”.

§ 265.7 [Amended]

21. Amend § 265.7 as follows:

a. In paragraph (a)(2), remove the words “USPS Freedom of Information/Privacy Acts Officer” and add in their place the words “Manager, Records Office”.

b. In paragraph (a)(2), remove the digits “5202”.

c. In paragraph (a)(2), remove the words “office of Administration and FOIA” and add in their place the words “Records Office”.

§ 265.9 [Amended]

22. Amend § 265.9 as follows:

a. In paragraph (b)(1)(i), remove the words “each quarter hour spent by clerical personnel in searching for records is $4.40. When a search cannot be performed by clerical personnel and must be performed by professional or managerial personnel, the fee for each quarter hour in searching for records is $5.35.” and add in their place the words “a manual search is $32 per hour (fractions of an hour are rounded to the nearest half hour)”.

b. In paragraph (b)(1)(ii), remove the words “runs and operator salary, as calculated in accordance with the Information Services Price List” and add in their place the words “and personnel cost”.

c. In paragraph (b)(1)(ii), remove the words “list is” and add in their place the words “fees are”.

d. In paragraph (b)(2)(ii), remove the words “office of Administration and FOIA” and add in their place the words “Records Office”.

e. In paragraph (b)(2)(iii), remove the phrase “the per-page fee shall be charged” and add the phrase “the $.15 per-page fee shall be charged”; and

f. In paragraph (b)(2)(iii), add to the third sentence the words “or her” following the word “his”.

g. In paragraph (b)(3), revise the first two sentences.

h. Remove paragraph (e)(3).

i. In paragraph (g)(1), remove the words “Fees shall not be” and add in their place the words “No fees shall be”.

j. In paragraph (g)(1), remove the last sentence.

k. In paragraph (g)(2)(i), remove the words “the standard rates set out in the Information Services Price List” and add in their place the words “fee for computer searches”.

l. In paragraph (g)(2), remove the words “(including the cost of equipment use and operator's time) reaches the equivalent dollar amount of the operator's basic rate for two hours plus a factor to cover benefits.” and add in their place the words “(including the cost of personnel and computer processing time) reaches the equivalent dollar amount of personnel fees for two hours.”

m. In paragraph (g)(4), remove the words “office of Administration and FOIA” and add in their place the words “Manager, Records Office”.

n. Revise paragraph (g)(5).

The revisions read as follows:

§ 265.9 Schedule of fees.

* * * * *

(b) * * *

(3) * * * The fee for reviewing records located in response to a commercial use request is $32 per hour (fractions of an hour are rounded to the nearest half hour).

* * * * *

(g) * * *

(5) Fee for other services. Waivers do not apply for fees for address correction services performed in accordance with section R900 of the Domestic Mail Manual.

* * * * *

§ 265.10 [Amended]

23. In § 265.10, remove the word “.gov” and add in its place the words “.com/foia”.

§ 265.12 [Amended]

24. Amend § 265.12 as follows:

a. In paragraph (b)(7), remove the words “Freedom of Information/Privacy Acts Officer” and add in their place the words “Manager, Records Office”.

b. In paragraph (b)(7), remove the digits “5202”.

25. Revise Appendix A to read as follows:

Appendix A to Part 265—Fees for Computer Searches

When requested information must be retrieved by computer, rates for personnel and computer time apply. Estimates are provided to the requester in advance and are based on the following rates:

| Price | Unit
Personnel
High technical | $120 | per hour
Medium technical | 70 | per hour
Low technical | 50 | per hour
Computer Processing
Mainframe usage | $.39 | per second
Midrange server usage | .06 | per second
PC usage | 7.00 | per 15 minute
Printing computer output | .14 | per page
Magnetic tape production | 24.00 | per volume

PART 266—[AMENDED]

26. The authority citation for part 266 continues to read as follows:

Authority: 5 U.S.C. 552a; 39 U.S.C. 401.

§ 266.3 [Amended]

27. Amend § 266.3 as follows:

a. In paragraph (a), remove the words “Freedom of Information/Privacy Acts Officer. The USPS Freedom of Information/Privacy Acts Officer, under the Manager, Administration and FOIA” and add in its place the words “Records Office. The Records Office, within the Privacy Office”.

b. In paragraph (c) remove the words “office of Administration and FOIA” and add in their place the words “Records Office”.

c. In paragraph (d)(2) remove the words “Manager, Administration and FOIA” and add in their place the words “Chief Privacy Officer”.

d. Revise paragraphs (d)(2)(i) through (vi) to read as follows:

§ 266.3 Responsibility.

* * * * *

(d) * * *

(2) * * *

(i) Vice President and Consumer Advocate (Chairman).

(ii) Chief Postal Inspector.

(iii) Inspector General.

(iv) Senior Vice President, Human Resources.

(v) Vice President, General Counsel.

(vi) Chief Privacy Officer.”

§ 266.4 [Amended]

28. In § 266.4, paragraph (b)(6)(i),(iii), and (iv), remove the words “Freedom of Information/Privacy Acts Officer” and add in their place the words “Manager, Records Office”.

§ 266.5 [Amended]

29. In § 266.5, paragraph (d), remove the words “office of Administration and FOIA” and add in their place the words “Records Office”.

§ 266.6 [Amended]

30. Amend § 266.6 as follows:

a. In paragraph (a), remove the words “Freedom of Information/Privacy Acts Officer” and add in their place the words “Manager, Records Office”.

b. In paragraph (a), remove the digits “5202”.

c. In paragraph (d), remove the words “Freedom of Information/Privacy Acts Officer” and add in their place the words “Manager, Records Office”.

§ 266.7 [Amended]

31. In § 266.7, paragraph (a)(4), remove the words “office of Administration and FOIA” and add in their place the words “General Counsel”.

§ 266.8 [Amended]

32. In § 266.8, paragraph (b)(3), remove the words “the per page fee” and add in their place the words “$.15 per page fee”.

§ 266.10 [Amended]

33. In § 266.10, paragraphs (a), (b), and (d), remove the words “Freedom of Information/Privacy Acts Officer” and add in their place the words “Manager, Records Office”.

PART 267—[AMENDED]

34. The authority citation for part 267 continues to read as follows:

Authority: 39 U.S.C. 401; Pub. L. 93-579, 88 Stat. 1896.

§ 267.3 [Amended]

35. In § 267.3, paragraph (a), remove the words “Freedom of Information/Privacy Acts Officer” and add in their place the words “Chief Privacy Officer”.

§ 267.5 [Amended]

36. Amend § 267.5 as follows:

a. In paragraph (e)(3)(i), remove the words “Manager, Administration and FOIA” and add, in their place, the words “Manager, Records Office”.

b. In paragraph (e)(3)(i), remove the digits “5202”.

PART 268—[AMENDED]

37. The authority citation for part 268 continues to read as follows:

Authority: 39 U.S.C. 401; 5 U.S.C. 552a.

§ 268.1 [Amended]

38. In § 268.1, paragraph (b), remove the words “Freedom of Information/Privacy Acts Officer” and add in their place the words “Manager, Records Office”.

Stanley F. Mires,
Chief Counsel, Legislative.

[FR Doc. 03-20358 Filed 8-8-03; 8:45 am]

BILLING CODE 7710-12-P